DEPARTMENT OF THE INTERIOR

National Park Service

Special Resource Study on the Preservation and Interpretation of Historic Sites Associated With the Manhattan Project, New Mexico, Ohio, Tennessee and Washington; Notice of Intent To Prepare an Environmental Impact Statement

SUMMARY: Notice is hereby given that in accord with the National Environmental Policy Act of 1969, and pursuant to the Council of Environmental Quality regulations (40 CFR parts 1500-08), the U.S. Department of the Interior, National Park Service, in consultation with the Department of Energy, is initiating the conservation planning and environmental impact analysis process for a Special Resource Study concerning the preservation and interpretation of historic sites associated with the Manhattan Project. The scope of the study includes the Los Alamos National Laboratory and townsite, New Mexico; the Hanford Site in Washington; the Oak Ridge Reservation in Tennessee; and Dayton-area sites in Ohio. Following completion of the scoping phase an Environmental Impact Statement (EIS) is to be prepared. The authority for publishing this notice is contained in 40 CFR 1506.6.

The Special Resource Study will assess the national significance, suitability, and feasibility of designating one or more of these sites as a unit of the National Park System according to the standards and criteria for such determinations established in the National Park Service (NPS) Management Policies. In addition, management alternatives for the protection and interpretation for each of the sites will be evaluated according to NPS standards and criteria, and the potential environmental impacts (and appropriate mitigation strategies) of each alternative will be analyzed in the Draft EIS. Through the preliminary scoping process, the NPS welcomes suggestions from the public regarding preservation, interpretation, and management of the sites.

SUPPLEMENTARY INFORMATION: The Manhattan Project was a top-secret U.S. Government program implemented during World War II that was designed to beat Germany to the construction of the first nuclear bomb. The results of the Manhattan Project transformed the world of science and technology and ushered in the modern atomic and nuclear age.

Operating from December 1942 until September 1945, the Manhattan Project was a $2.2 billion effort that employed some 130,000 persons at its peak, but was kept largely out of public view. The Manhattan Project was conducted in four principal locations including Oak Ridge, Tennessee, where the first uranium enrichment facilities and pilot scale nuclear reactor were built; Hanford, Washington, the location of the first large-scale reactor for producing plutonium; Los Alamos, New Mexico, where the first atomic bombs were designed and assembled; and the Trinity Site, New Mexico, where the first nuclear device was detonated.

Three of these sites have been designated as National Historic Landmarks and all are listed in the National Register of Historic Places. A panel of experts convened by the Advisory Council on Historic Preservation reported in 2001 that the development and use of the atomic bomb during World War II has been called “the single most significant event of the 20th century.” The Advisory Council recommended that the sites of the Manhattan Project be formally established as a collective unit and be administered for preservation, commemoration, and public interpretation in cooperation with the NPS.

On October 18, 2004 President George W. Bush approved Public Law 108-340 “The Manhattan Project National Historical Park Study Act”. This legislation directed the Secretary of the Interior, in consultation with the Department of Energy, to conduct a special resource study to assess the national significance, suitability, and feasibility of designating one or more of three sites named in the study as a unit of the National Park System. The three sites include the Los Alamos National Laboratory and townsite in New Mexico; the Hanford Site in Washington; and the Oak Ridge Reservation in Tennessee. The Secretary of the Interior, in conducing the study, was directed: to one or more of these sites as a unit of the National Park System with maintaining certain goals of the Department of Energy; and to consider previous research done by the Department of Energy on these sites. Consistent with Public Law 108-340, Eayton, Ohio, area sites where polonium-based triggers were designed and produced for the first atomic bombs will also be included in the study.

Public Scoping: Public scoping meetings will be an important foundation for this study. At this time its anticipated that during March-April 2006 a meeting will be held in each of the areas where sites are located. Representatives of the NPS will be available at each of the meetings to discuss issues, resource concerns, and the conservation planning and environmental impact analysis process. When confirmed, full details about the meetings will be widely announced via local and regional media and direct mailings. In addition, project newsletters will be peridocially prepared and distributed to all interested parties.

Responses to this Notice (and various media releases) will serve as the basis for developing a project mailing list. Persons who may be interested in or affected by any possible site designations are invited to participate in the scoping process by responding to this Notice with written comments. The scoping process for the EIS will help define issues or problems facing the Special Resource Study. All interested individuals and organizations are encouraged to provide any concerns, suggestions, or relevant information which should be considered in undertaking the Manhattan Project Sites Special Resource Study. Respondents may also address evaluation of significance, suitability, and feasibility, development of management alternatives, identification and analysis of environmental issues, and related matters.

All written comments should be directed to Carla McConnell, Project Manager and NPS Community Planner, Denver Service Center, PO Box 25287, 12795 West Alameda Parkway, Denver, Colorado 80225-0287, (303) 969-2287. All written comments must be postmarked not later than June 30, 2006. All respondents are advised that individual names and addresses may be included as part of the public record, and will be available for public review during regular business hours. There may be circumstances in which a person prefers to have his/her name and other information withheld from the public record. Any person wishing to do this must state this prominently at the beginning of any comment or correspondence, and the request will be honored to the extent allowable by law. As always, all submissions from organizations or businesses, and from individuals identifying themselves as representatives or officials of organizations or businesses, will be included in the public record and are open to public inspection in their entirety; and, anonymous comments may not be considered.

Decision Process: The officials responsible for the preparation of the Draft and Final EIS and completion of the Special Resource Study process are as follows:

Patricia A. Hooks, Regional Director, Southeast Region, National Park Service, 1924 Building, 100 Alabama Street, SW, Atlanta, Georgia 30303-8701;

Ernest Quintana, Regional Director, Midwest Region, National Park Service, 1709 Jackson Street, Omaha, Nebraska 68102;

Michael D. Snyder, Regional Director, Intermountain Region, National Park Service, P.O. Box 25287, 12795 West Alameda Parkway, Denver, Colorado 80225-0287;

Jonathan B. Jarvis, Regional Director, Pacific West Region, National Park Service, 1111 Jackson Street, Suite 700, Oakland, California 94607.

Subsequently the Director, National Park Service will be responsible for amending or ratifying the recommendations and transmitting the completed Special Resource Study to the Secretary of the Interior. The Secretary determines the final recommended actions to be submitted for Congress' consideration.

Dated: January 13, 2006.
George J. Turnbull,
Acting Regional Director, Pacific West Region.

[FR Doc. 06-2407 Filed 3-13-06; 8:45 am]

BILLING CODE 4312-52-M